TENNESSEE VALLEY AUTHORITY

Meeting of the Regional Resource Stewardship Council

AGENCY: Tennessee Valley Authority (TVA).

ACTION: Notice of meeting.

SUMMARY: The TVA Regional Resource Stewardship Council (RRSC) will hold a meeting on October 13 and October 14, 2011, to obtain views and advice on the topic of the regulation of non-navigable floating structures on TVA reservoirs.

The RRSC was established to advise TVA on its natural resource stewardship activities. Notice of this meeting is given under the Federal Advisory Committee Act (FACA), 5 U.S.C. App. 2.

The meeting agenda includes the following:

1. Introductions.

2. TVA Updates: Feedback from the TVA Board of Directors on the Council's previous advice, a summary of the Natural Resource Plan implementation plan for fiscal year 2012, and information about TVA's Recreation Program under the Natural Resource Plan.

3. Presentation(s) concerning the issues surrounding the regulation of non-navigable floating structures on TVA reservoirs.

4. Public Comments.

5. Council Discussion and Advice.

The RRSC will hear opinions and views of citizens by providing a public comment session. The public comment session will be held at 10 a.m., EDT, on Friday, October 14. Persons wishing to speak are requested to register at the door by 9 a.m., EDT, on Friday, October 14 and will be called on during the public comment period. Handout materials should be limited to one printed page. Written comments are also invited and may be mailed to the Regional Resource Stewardship Council, Tennessee Valley Authority, 400 West Summit Hill Drive, WT 11B, Knoxville, Tennessee 37902.

DATES: The meeting will be held on Thursday, October 13, 2011, from 8 a.m. to 10 a.m., EDT, and on Friday, October 14, 2011, from 8 a.m. to Noon, EDT.

ADDRESSES: The meeting will be held in the Auditorium of the TVA Headquarters at, 400 West Summit Hill Drive, Knoxville, TN 37902, and will be open to the public. Anyone needing special access or accommodations should let the contact below know at least a week in advance.

FOR FURTHER INFORMATION CONTACT: Beth Keel, 400 West Summit Hill Drive, WT 11B, Knoxville, Tennessee 37902, (865) 632-6113.

Dated: September 19, 2011.
Anda A. Ray,
Senior Vice President and Environmental Executive, Environment and Technology, Tennessee Valley Authority.

[FR Doc. 2011-24535 Filed 9-22-11; 8:45 am]

BILLING CODE 8120-08-P